SECURITIES AND EXCHANGE COMMISSION

Submission for OMB Review; Comment Request

Upon Written Request; Copies Available From: Securities and Exchange Commission, Office of Filings and Information Services, Washington, DC 20549

Extension:

Form F-9, SEC File No. 270-333, OMB Control No. 3235-0377

Form F-10, SEC File No. 270-334, OMB Control No. 3235-0380

Form 10, SEC File No. 270-51, OMB Control No. 3235-0064

Notice is hereby given that, pursuant to the Paperwork Reduction Act of 1995 (44 U.S.C. 3501 et seq.), the Securities and Exchange Commission (“Commission”) has submitted to the Office of Management and Budget requests for approval of extensions on the following:

Form F-9 is a Registration Statement under the Securities Act of 1933 (Securities Act) used by certain Canadian issuers to register certain investment grade debt or investment grade preferred securities that are offered for cash or in connection with an exchange offer and either non convertible or not convertible for a period of at least one year from the date of issuance and, except as noted in paragraph (e), are thereafter only convertible into security of another class of the issuer.

The information required by Form F-9 is useful for persons considering investment in securities issued by Canadian companies. Form F-9 takes approximately 25 hours to prepare and is filed by 12 respondents. It is estimated that 25% of the 300 hours (75 hours) would be prepared by the company.

Form F-10 is a Registration Statement used by Canadian “substantial issuers,” those issuers with at least thirty-six calendar months of reporting history with a securities commission in Canada and a market value of common stock of at least $360 million (Canadian) and an aggregate market value of common stock held by non-affiliates of at least $75 million (Canadian).

The information required under the cover of Form F-10 can be used by security holders and investors in evaluating securities and making investment decisions. Form F-10 takes approximately 25 hours to prepare and is filed by 45 respondents. It is estimated that 25% of the 1,125 hours (281) would be prepared by the company.

Form 10 is used by the Commission to register securities pursuant to Sections 12(b) or 12(g) of the Securities Exchange Act of 1934 (Exchange Act). Form 10 requires financial and other information about such matters as the registrant's business, properties, identity and remuneration of management, outstanding securities and securities to be registered and financial condition.

The information provided by Form 10 is intended to ensure the adequacy of information available to investors about the company. form 10 takes approximately 24 hours to prepare and is filed by 124 respondents. It is estimated that 25% of the 2,977 hours (744 hours) would be prepared by the company.

All information provided to the Commission is available to the public for review. Information provided by both Form F-9 and Form F-10 is mandatory. Information provided by Form 10 is voluntary.

An agency may not conduct or sponsor, and a person is not required to respond to, a collection of information unless it displays a currently valid control number.

General comments regarding the above information should be directed to the following persons: (i) Desk Officer for the Securities and Exchange Commission, Office of Information and Regulatory Affairs, Office of Management and Budget, New Executive Office Building, Washington DC 20503; and (ii) Michael E. Bartell, Associate Executive Director, Office of information Technology, Securities and Exchange Commission, 450 Fifth Street, N.W., Washington DC 20549. Comments must be submitted to OMB within 30 days of this notice.

Dated: January 10, 2000.
Margaret H. McFarland,
Deputy Secretary.

[FR Doc. 00-1480 Filed 1-20-00; 8:45 am]

BILLING CODE 8010-01-M